DEPARTMENT OF EDUCATION

[CFDA No. 84.323]

Office of Special Education and Rehabilitative Services, Office of Special Education Programs—State Program Improvement Grant Program; Notice Inviting Applications for New Awards for Fiscal Year 2002

Purpose of Program: The purpose of the State Program Improvement Grant program is to assist State educational agencies and their partners referred to in section 652(b) of IDEA with reforming and improving their systems for providing educational, early intervention, and transitional services, including their systems for professional development, technical assistance, and dissemination of knowledge about best practices, to improve results for children with disabilities.

Eligible Applicants: State educational agencies with currently funded State Improvement Grants.

Applications Available: August 8, 2002.

Deadline for Transmittal of Applications: September 9, 2002.

Deadline for Intergovernmental Review: September 19, 2002.

Estimated Available Funds: $8,000,000.

Estimated Number of Awards: Under this priority, the Secretary will make, based on available funds, up to 36 supplements.

Estimated Size of Awards: State educational agencies with currently funded State Improvement grants may apply for up to 10 percent of the five-year total of their existing awards.

Page Limit

Part III of each application, the application narrative, is where an applicant addresses the selection criteria that are used by reviewers in evaluating the application. You must limit Part III to the equivalent of no more than 25 pages, using the following standards:

• A “page” is 8.5″ × 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography or references, or the letters of support. However, you must include all of the application narrative in Part III.

We will reject any application if—

• You apply these standards and exceed the page limit; or

• You apply other standards and exceed the equivalent of the page limit.

Applicable Regulations: (a) The Education Department General Administrative Regulations (EDGAR) in 34 CFR parts 74, 75, 77, 79, 80, 81, 82, 85, 86, 97, 98, and 99; and (b) The regulations for this program in 34 CFR part 304; and (c) The selection criteria chosen from the general selection criteria in 34 CFR 75.210. The specific selection criteria for this priority are included in the application package for this competition.

Priority

For FY 2002 this priority is an absolute priority. Under 34 CFR 75.105(c)(3) we consider only applications that meet the priority.

This competition focuses on projects designed to meet a priority in the notice of final priority for this program, published elsewhere in this issue of the Federal Register.

For Application Information Contact: For this priority under the Special Education—State Program Improvement Grant Program, contact Larry Wexler, U.S. Department of Education, 400 Maryland Avenue, SW., Room 3630, Switzer Building, Washington, DC 20202-2641. Telephone: (202) 205-5390. FAX: (202) 205-9179 or via Internet: Larry.Wexler@ed.gov.

If you use a telecommunications device for the deaf (TDD), you may call the Federal Information Relay Service (FIRS) at 1-800-877-8339.

Individuals with disabilities may obtain a copy of this document in an alternative format (e.g., Braille, large print, audiotape, or computer diskette) on request to the contact person listed under FOR APPLICATION INFORMATION CONTACT.

Electronic Access to This Document

You may view this document, as well as all other Department of Education documents published in the Federal Register, in text or Adobe Portable Document Format (PDF) on the Internet at either of the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

Program Authority: 20 U.S.C. 1405, 1461, 1472, 1474, and 1487.

Dated: August 5, 2002.
Robert H. Pasternack,
Assistant Secretary for Special Education and Rehabilitative Services.

[FR Doc. 02-20120 Filed 8-7-02; 8:45 am]

BILLING CODE 4000-01-P